DEPARTMENT OF AGRICULTURE

Natural Resources Conservation Service

[Docket No. NRCS-2022-0001]

Notice of Intent To Prepare an Environmental Impact Statement for the Etowah River Watershed, Dawson County, Georgia

AGENCY: Natural Resources Conservation Service, USDA.

ACTION: Notice of Intent (NOI) to prepare an Environmental Impact Statement (EIS).

SUMMARY: The Natural Resources Conservation Service (NRCS) Georgia State Office announces its intent to prepare an EIS for the Etowah River Watershed Project in the proximity of Dawsonville, Georgia. The EIS process will examine flood prevention and agricultural water management measures and evaluate additional (new) alternative solutions identified during scoping. NRCS is requesting comments to identify significant issues, potential alternatives, information, and analyses relevant to the Proposed Action from all interested individuals, Federal and State agencies, and Tribes.

DATES: We will consider comments that we receive by May 9, 2022. Comments received later will be considered to the extent possible.

ADDRESSES: We invite you to submit comments in response to this notice. You may submit your comments through one of the methods below:

• Federal eRulemaking Portal: Go to http://www.regulations.gov and search for docket ID NRCS-2022-0001. Follow the online instructions for submitting comments; or

• Mail or Hand Delivery: Gregg Hudock, P.E., Principal, Practice Leader and Group Leader, Golder Associates, Inc., 5170 Peachtree Road, Building 100, Suite 300, Atlanta, GA, USA, 30341. Please specify the docket ID NRCS-2022-0001.

All comments received will be posted without change and made publicly available on www.regulations.gov.

FOR FURTHER INFORMATION CONTACT: Diane A. Guthrie, P.E.; telephone: (706)-546-2310; email: diane.guthrie@usda.gov. In addition, for questions related to submitting comments contact Golder Associates, Inc.: Gregg Hudock, P.E. at (770)-496-1893, Fax (770) 934-9476, Gregg_Hudock@golder.com. Persons with disabilities who require alternative means for communication should contact the U.S. Department of Agriculture (USDA) Target Center at (202) 720-2600 (voice).

SUPPLEMENTARY INFORMATION:

Purpose and Need

NRCS is evaluating alternatives that will prevent or reduce flooding and increase and maintain safe and reliable supplies of water for the local community while increasing water conservation and improving water delivery efficiency in the Etowah River Watershed. The primary purpose underlying watershed planning and the proposed action is to:

(a) Provide flood protection to reduce floodwater damages for crops and pasture, fences, farmsteads, machinery, buildings, livestock, county and township roads and bridges, and urban areas in Dawsonville; and

(b) Provide a rural water supply to meet current and future water demands by increasing and maintaining safe and reliable supplies of water for the local rural community, increasing water conservation, and improving water delivery efficiency in the Etowah River Watershed for Dawson County, Georgia.

This proposed action is authorized under the Watershed Prevention and Flood Protection Act of 1954. The action is needed to provide flood damage protection due to the existing aging Etowah River Watershed Dam No. 13 and to provide agricultural and rural water management ensuring a safe and reliable water supply that meets current and future water demands. The current watershed structure has reached the end of its original 50-year design life and needs to be brought into compliance with modern dam safety criteria. The existing Etowah River Watershed Dam No. 13 is not in compliance with the Georgia Rules for Dam Safety and the NRCS TR-60 design criteria. Through hydraulic modeling, it was determined the auxiliary spillway is likely to breach during storms categorized as 500-year storm or Probable Maximum Precipitation (PMP) storm events. Model analysis has also determined that the dam will be overtopped and will likely breach during storms that are as low as ½ PMP storm events.

Preliminary Proposed Action and Alternatives

NRCS initiated the National Environmental Policy Act of 1969 (NEPA) process with the preparation of an Environmental Assessment (EA) for the same action, engaged in several public scoping meetings, conducted scoping processes with Federal, State, and local agencies to identify any significant issues which may be related to the proposed action, and completed a Draft EA. NRCS analyzed multiple conceptual alternatives during the environmental evaluation and scoping process. As a result of this early analysis, several alternatives were eliminated from further consideration. A determination was made that an EIS was necessary due to the volume of water retained by the proposed reservoir. One action alternative was carried forward in the EIS, the proposal to construct a new dam in place of the existing watershed structure.

This EIS will be prepared as required by section 102(2)(C) of NEPA; the Council on Environmental Quality regulations (40 CFR parts 1500-1508); and NRCS regulations that implement NEPA in 7 CFR part 650, CFR 622, and National Environmental Compliance Handbook (NECH 610). Evaluation of potential environmental impacts associated with federal projects and actions is required.

NRCS is considering providing technical assistance and financial support for the implementation of the proposed action. Technical and financial assistance for the proposed project would be funded through the NRCS Watershed Protection and Flood Prevention Program.

1. Alternative 1—Proposed Action: Construction of a new watershed dam. The NRCS Etowah River Watershed Dam No. 13 Structure will be replaced with a new multipurpose structure to provide flood control and agricultural water management. The new dam will be an earthen embankment with a height of approximately 110 ft. The reservoir area at normal pool will be 132 acres with a total storage volume of 6,338 acre-feet (at the top of dam). The flood-pool volume is 704 acre-feet, and the surcharge volume is 1,702 acre-feet. The structure will provide up to 14.3 million gallons per day (MGD, peak monthly demand) of raw water supply for the Etowah Water & Sewer Authority (EWSA).

The structure will be a pump storage reservoir from the Etowah River. Water will be withdrawn from the Etowah River (in compliance with the EWSA withdrawal permits) at the Hightower Water Plant and pumped to the reservoir via a 30-inch raw water pipeline. The pipeline traverses approximately 2.7 miles along the floodplain of the Etowah River and Russell Creek to the reservoir. Raw water will be released from the reservoir to the Hightower Water Plant using the same raw water pipeline during periods of low flow in the Etowah River when the EWSA cannot meet their water needs solely from the Etowah River.

2. Alternative 2—No action. Taking no action would consist of measures carried out if no federal action or funding were provided. The Dam No.13 Structure would not be replaced with a new multipurpose structure to provide flood control and agricultural water management. The existing structure would continue to operate in its current condition, dam safety concerns would not be addressed, a rural water supply to meet current and future water demands would not be available for the local rural community, and flood damage protection would not be provided. Ongoing maintenance activities would be required to keep the current structure operable, providing limited flood protection.

Summary of Expected Impacts

The decision to prepare the Watershed Plan EIS was based upon the volume of water retained by the proposed reservoir. Early agency scoping of this federally assisted action indicated that proposed alternatives may have significant local, regional, or national impacts on the environment due to the retained volume of water. The watershed planning under the EIS will evaluate the effectiveness of proposed adjustments and the bio-physical and socio-economic impacts to the Etowah River Watershed Dam No. 13.

Potential impacts include wetland and flood plain alteration; mitigation for the loss of 5.52 acres of wetlands and 24,550 linear feet of streams will include the purchase of 42.6 wetland credits and 122,318 stream credits from approved compensatory mitigation banks servicing the project site. The purchase of mitigation bank credits is an appropriate method to offset temporal and functional losses associated with project implementation; these actions provide valuable contributions to the protection of water quality, as well as provide protection for valuable fish and wildlife habitat in perpetuity.

In addition, conservation measures will be implemented to avoid and minimize environmental impacts by implementing best management practices and requiring a 150-foot buffer around the reservoir and on each side of 9,500 feet of Russell Creek above the reservoir. Monitoring of the project during and after construction, including sequencing construction activities to protect spawning periods for listed fishes and implementing operational procedures, will ensure survival of local warm water species of fish.

Anticipated Permits and Authorizations

The following permits and other authorizations are anticipated to be required:

• CWA Section 404 permit. Implementation of the proposed federal action would require a Clean Water Act (CWA) Section 404 permit from the U.S. Army Corps of Engineers. Permitting with the U.S. Army Corps of Engineers regarding potential wetland impacts is ongoing and will be finalized prior to final design and construction.

• CWA Section 401 permit. The project would also require water quality certification under Section 401 of the CWA and permitting under Section 402 of the CWA (National Pollutant Discharge Elimination System Permit).

• Dam safety and floodplain permit. Local dam safety and floodplain permits will be required for construction and operation of the dam.

• Surface Water Withdrawal permit. Permit No. 042-1415-02 received.

• Stream Buffer Variance. Variance will be obtained from the Georgia Environmental Protection Division for reservoir clearing work.

• Georgia Department of Transportation Right of Way Encroachment Permit. Project will require a raw water pipeline to be installed under State Highway 53 by jacking and boring construction methods.

• NHPA Section 106 consultation. Consultation with the Georgia Historic Preservation Division, Tribal Nations, and interested parties will be conducted as required by the National Historic Preservation Act of 1966 (as amended) (16 U.S.C. 470f).

• Endangered Species Act, Section 7 Consultation. Compliance documented via consultation with US Fish and Wildlife Service and Georgia Wildlife Resources Division.

Schedule of the Decision-Making Process

A draft EIS will be prepared and circulated for review and comment by agencies and the public as required by 40 CFR 1503.1, 1502.20, 1506.11, 1502.17, and 7 CFR 650.13. The draft EIS will be complete and available for public review within 14 months of publication of this NOI. Once the draft EIS is completed, a Notice of Availability (NOA) will be published in the Federal Register and a public review period of 45 days will be provided. Comments on the Draft EIS will be addressed in the Final EIS. A NOA will be published in the Federal Register concerning the availability of the Final EIS and a Draft Record of Decision (ROD). A 30-day review period from the day the NOA is published in the Federal Register will be provided. Afterwards, the final ROD will be signed by the decision maker and responsible federal official for the project, the NRCS Georgia State Conservationist, Mr. Terrance O. Rudolph.

Public Scoping Process

Three public scoping meetings were held during which NRCS presented the project and provided the opportunity for the public to ask questions and have input to the scope of the draft EA. The public scoping meetings were held on April 11, 2019, May 9, 2019, and June 27, 2019, at the Etowah Water and Sewer Authority in Dawsonville, GA. All interested parties and groups were invited. In addition, the public meetings were advertised in the local newspaper and notices posted on the EWSA website. Project team members were available for individual questions and discussions. Comments received, including the names and addresses of those who commented, will be part of the public record. In addition, Federal, State, and local governments provided input during the preparation of the Draft EA. Once the Draft EIS is published in the Federal Register, an additional scoping meeting will be held within 4 weeks of publication; meeting details will be published in the local paper, the website for the EWSA, and the NRCS-GA website.

Request for Identification of Potential Alternatives, Information, and Analyses

NRCS invites agencies and individuals who have special expertise, legal jurisdiction, or interest in the Etowah River Watershed to provide comments concerning the scope of the analysis and identification of relevant information and studies. All interested parties are invited to provide input related to the identification of potential alternatives, information, and analyses relevant to the Proposed Action in writing or during the public scoping meeting.

Authorities

This document is published pursuant to the National Environmental Policy Act (NEPA) regulations regarding publication of a notice of intent to issue an environmental impact statement (40 CFR 1501.9(d)). This EIS will be prepared to evaluate potential environmental impacts as required by section 102(2)(C) of the National Environmental Policy Act of 1969 (NEPA); the Council on Environmental Quality regulations (40 CFR parts 1500-1508); and NRCS regulations that implement NEPA in 7 CFR part 650. Watershed planning is authorized under the Watershed Protection and Flood Prevention Act of 1954, as amended, (Pub. L. 83-566) and the Flood Control Act of 1944 (Pub. L. 78-534). Also, the number and title of the Federal assistance program in the Catalog of Federal Domestic Assistance to which this NOI applies is 10.904-Watershed Protection and Flood Prevention.

USDA Non-Discrimination Policy

In accordance with Federal civil rights law and USDA civil rights regulations and policies, USDA, its Agencies, offices, and employees, and institutions participating in or administering USDA programs are prohibited from discriminating based on race, color, national origin, religion, sex, gender identity (including gender expression), sexual orientation, disability, age, marital status, family or parental status, income derived from a public assistance program, political beliefs, or reprisal or retaliation for prior civil rights activity, in any program or activity conducted or funded by USDA (not all bases apply to all programs). Remedies and complaint filing deadlines vary by program or incident.

Persons with disabilities who require alternative means of communication for program information (for example, braille, large print, audiotape, American Sign Language, etc.) should contact the responsible Agency or USDA TARGET Center at (202) 720-2600 (voice and TTY) or (844) 433-2774 (toll-free nationwide). Additionally, program information may be made available in languages other than English.

To file a program discrimination complaint, complete the USDA Program Discrimination Complaint Form, AD-3027, found online at https://www.usda.gov/oascr/how-to-file-a-program-discrimination-complaint and at any USDA office or write a letter addressed to USDA and provide in the letter all the information requested in the form. To request a copy of the complaint form, call (866) 632-9992. Submit your completed form or letter to USDA by mail to: U.S. Department of Agriculture, Office of the Assistant Secretary for Civil Rights, 1400 Independence Avenue SW, Washington, DC 20250-9410 or email: OAC@usda.gov.

USDA is an equal opportunity provider, employer, and lender.

Terrance O. Rudolph,
Georgia State Conservationist, Natural Resources Conservation Service.

[FR Doc. 2022-07573 Filed 4-7-22; 8:45 am]

BILLING CODE 3410-16-P